DEPARTMENT OF COMMERCE

International Trade Administration

[C-570-953]

Narrow Woven Ribbons With Woven Selvedge From the People's Republic of China: Final Results of Countervailing Duty Administrative Review; 2015

AGENCY: Enforcement and Compliance, International Trade Administration, Department of Commerce.

SUMMARY: The Department of Commerce (Commerce) determines that Yama Ribbons and Bows Co., Ltd (Yama), an exporter/producer of narrow woven ribbons with woven selvedge (ribbons) from the People's Republic of China (China), received countervailable subsidies during the period of review (POR) January 1, 2015, through December 31, 2015.

DATES: Applicable March 14, 2018.

FOR FURTHER INFORMATION CONTACT: Terre Keaton Stefanova, AD/CVD Operations, Office II, Enforcement and Compliance, International Trade Administration, U.S. Department of Commerce, 1401 Constitution Avenue NW, Washington, DC 20230; telephone: (202) 482-1280.

SUPPLEMENTARY INFORMATION:

Background

Commerce published the Preliminary Results of this administrative review in the Federal Register on September 7, 2017.¹ We invited interested parties to comment on the Preliminary Results. On October 24, 2017, we received a timely case brief from Yama.² On October 31, 2017, we received timely rebuttal comments from Berwick Offray LLC (the petitioner).³ On November 28, 2017, Commerce postponed the final results of review until March 6, 2018. Based on an analysis of the comments received, Commerce has made no changes to the subsidy rate determined for the respondent. The final subsidy rate is listed below in the “Final Results of Administrative Review” section.

¹ See Narrow Woven Ribbons with Woven Selvedge from the People's Republic of China: Preliminary Results of Countervailing Duty Administrative Review; 2015, 82 FR 42296 (September 7, 2017) (Preliminary Results).

² See Letter from Yama, ” Narrow Woven Ribbons with Woven Selvedge from the People's Republic of China: Case Brief,” dated October 24, 2017.

³ See Letter from the petitioner, “Rebuttal Brief of Petitioner Berwick Offray LLC,” dated October 31, 2017.

Commerce exercised its discretion to toll all deadlines affected by the closure of the Federal Government from January 20 through 22, 2018. The revised deadline for the final determination of this investigation is now March 9, 2018.⁴

⁴ See Memorandum, “Deadlines Affected by the Shutdown of the Federal Government,” dated January 23, 2018. All deadlines in this segment of the proceeding have been extended by three days.

Scope of the Order

The merchandise covered by the order are narrow woven ribbons with woven selvedge from China. A full description of the scope of the order is contained in the Issues and Decision Memorandum, which is hereby adopted by this notice.⁵

⁵ A full description of the scope of the order is contained in Memorandum, ” Decision Memorandum for the Final Results of 2015 Countervailing Duty Administrative Review: Narrow Woven Ribbons with Woven Selvedge from the People's Republic of China,” dated concurrently with this notice (Issues and Decision Memorandum).

Analysis of Comments Received

All issues raised in interested parties' briefs are addressed in the Issues and Decision Memorandum accompanying this notice. A list of the issues raised by interested parties and to which we responded in the Issues and Decision Memorandum is provided in the Appendix to this notice. The Issues and Decision Memorandum is a public document and is on file electronically via Enforcement and Compliance's Antidumping and Countervailing Duty Centralized Electronic Service System (ACCESS). ACCESS is available to registered users at https://access.trade.gov and in the Central Records Unit, room B8024 of the main Department of Commerce building. In addition, a complete version of the Issues and Decision Memorandum can be access directly at http://enforcement.trade.gov/frn/. The signed and electronic versions of the Issues and Decision Memorandum are identical in content.

Changes Since the Preliminary Results

Based on the comments received from the interested parties, we made no changes to our subsidy rate calculation. For a discussion of these issues, see the Issues and Decision Memorandum.

Methodology

Commerce conducted this review in accordance with section 751(a)(1)(A) of the Tariff Act of 1930, as amended (the Act). For each of the subsidy programs found to be countervailable, we find that there is a subsidy, i.e., a financial contribution from a government or public entity that gives rise to a benefit to the recipient, and that the subsidy is specific.⁶ For a full description of the methodology underlying all of Commerce's conclusions, including any determination that relied upon the use of adverse facts available pursuant to sections 776(a) and (b) of the Act, see the Issues and Decision Memorandum.

⁶ See sections 771(5)(B) and (D) of the Act regarding financial contribution; section 771(5)(E) of the Act regarding benefit; and section 771(5A) of the Act regarding specificity.

Final Results of Administrative Review

In accordance with section 777A(e) of the Act and 19 CFR 351.221(b)(5), we determine the total net countervailable subsidy rate for the period January 1, 2015 to December 31, 2015 to be:

Company | Subsidy rate (%)
Yama Ribbons and Bows Co., Ltd | 23.37

Assessment Rates

In accordance with 19 CFR 351.212(b)(2), Commerce intends to issue appropriate instructions to U.S. Customs and Border Protection (CBP) 15 days after the date of publication of the final results of this review. Commerce will instruct CBP to liquidate shipments of subject merchandise produced and/or exported by the company listed above, entered, or withdrawn from warehouse, for consumption, from January 1, 2015, through December 31, 2015, at the ad valorem rate listed above.

Cash Deposit Requirements

Commerce intends also to instruct CBP to collect cash deposits of estimated countervailing duties in the amount shown above for Yama, on shipments of subject merchandise entered, or withdrawn from warehouse, for consumption on or after the date of publication of the final results of this review. For all non-reviewed firms, Commerce will instruct CBP to continue to collect cash deposits at the most recent company-specific or all-others rate applicable to the company, as appropriate. Accordingly, the cash deposit requirements that will be applied to companies covered by this order, but not examined in this administrative review, are those established in the most recently completed segment of the proceeding for each company. These cash deposit requirements, when imposed, shall remain in effect until further notice.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

These final results are issued and published in accordance with sections 751(a)(1) and 777(i)(1) of the Act.

Dated: March 8, 2018.
Gary Taverman,
Deputy Assistant Secretary for Antidumping and Countervailing Duty Operations, performing the non-exclusive functions and duties of the Assistant Secretary for Enforcement and Compliance.

Appendix—List of Topics Discussed in the Issues and Decision Memorandum

I. Summary

II. Background

III. Scope of the Order

IV. Use of Facts Adverse Facts Available (AFA)

V. Subsidies Valuation

A. Allocation Period

B. Attribution of Subsides

C. Denominators

VI. Interest Rate Benchmarks, Discount Rates, Input and Electricity

VII. Programs Determined to be Countervailable

VIII. Programs Determined not to Provide Measurable Benefits During the POR

IX. Programs Determined not to be Used During the POR

X. Analysis of Comments

Comment 1: The Application of Adverse Facts Available (AFA) to the Provision of Synthetic Yarn and Caustic Soda for Less-than-Adequate Remuneration Programs

Comment 2: The Application of AFA to the Export-Import (EXIM) Buyer's Credit Program

Comment 3: The Application of AFA to Yama Due to Non-Cooperation of the Government of China (GOC)

Comment 4: Whether Programs Found to be Countervailable Based on AFA are Specific

XI. Recommendation

[FR Doc. 2018-05150 Filed 3-13-18; 8:45 am]

BILLING CODE 3510-DS-P